DEPARTMENT OF ENERGY

10 CFR Parts 429 and 431

[Docket Number EERE-2011-BT-TP-0024]

RIN 1904-AC46

Energy Conservation for Certain Industrial Equipment: Alternative Efficiency Determination Methods and Test Procedures for Walk-In Coolers and Walk-In Freezers; Extension of Public Comment Period

AGENCY: Office of Energy Efficiency and Renewable Energy, Department of Energy.

ACTION: Extension of public comment period.

SUMMARY: The U.S. Department of Energy (DOE) is reopening of the comment period for interested parties to submit comments on the February 20, 2014 supplemental notice of proposed rulemaking for walk-in cooler and walk-in freezer alternative efficiency determination methods and test procedures. The comment period is extended to April 25, 2014.

DATES: Comments: DOE will accept comments, data, and information regarding the supplemental notice of proposed rulemaking (SNOPR) for walk-in cooler and walk-in freezer alternative efficiency determination methods and test procedures no later than April 25, 2014.

ADDRESSES: Interested persons are encouraged to submit comments using the Federal eRulemaking Portal at www.regulations.gov. Alternatively, interested persons may submit comments, identified by docket number EERE-2011-BT-TP-0024 and/or RIN 1904-AC46, by any of the following methods:

• Email: AED-ARM-2011-TP-0024@ee.doe.gov. Include EERE-2011-BT-TP-0024 and/or RIN 1904-AC46in the subject line of the message. Submit electronic comments in WordPerfect, Microsoft Word, PDF, or ASCII file format, and avoid the use of special characters or any form of encryption.

• Postal Mail: Ms. Brenda Edwards, U.S. Department of Energy, Building Technologies Office, Mailstop EE-5B, 1000 Independence Avenue SW., Washington, DC 20585-0121. If possible, please submit all items on a compact disc (CD), in which case it is not necessary to include printed copies.

• Hand Delivery/Courier: Ms. Brenda Edwards, U.S. Department of Energy, Building Technologies Office, 950 L'Enfant Plaza SW., 6th Floor, Washington, DC 20024. Telephone: (202) 586-2945. If possible, please submit all items on a CD, in which case it is not necessary to include printed copies.

Docket: The docket is available for review at www.regulations.gov, including Federal Register notices, public meeting attendee lists and transcripts, comments, and other supporting documents/materials. All documents in the docket are listed in the www.regulations.gov index. However, not all documents listed in the index may be publicly available, such as information that is exempt from public disclosure.

A link to the docket Web page can be found at: http://www.regulations.gov/#!docketDetail;D=EERE-2011-BT-TP-0024. This Web page contains a link to the docket for this notice on the www.regulations.gov site. The www.regulations.gov Web page contains simple instructions on how to access all documents, including public comments, in the docket.

For information on how to submit a comment or review other public comments and the docket, contact Ms. Brenda Edwards at (202) 586-2945 or by email: Brenda.Edwards@ee.doe.gov.

FOR FURTHER INFORMATION CONTACT: Ms. Ashley Armstrong, U.S. Department of Energy, Office of Energy Efficiency and Renewable Energy, Building Technologies Office, EE-5B, 1000 Independence Avenue SW., Washington, DC 20585-0121. Telephone: (202) 586-6590. Email: Ashley.Armstrong@ee.doe.gov.

Mr. Michael Kido, U.S. Department of Energy, Office of the General Counsel, GC-71, 1000 Independence Avenue SW., Washington, DC 20585-0121. Telephone: (202) 586-8145. Email: Michael.Kido@hq.doe.gov.

SUPPLEMENTARY INFORMATION: On February 20, 2014 DOE issued a supplemental notice of proposed rulemaking (SNOPR) that proposed to revise its existing regulations for walk-in coolers and walk-in freezers regarding the use of methods other than testing for certifying compliance and reporting ratings in accordance with energy conservation standards. DOE also proposed clarifications to its test procedures for this equipment. 79 FR 9817. In today's notice, the Department is reopening the comment period for the February 20, 2014 SNOPR to allow interested parties additional time to provide the Department with comments, data, and information. The Department will accept comments regarding the February 20, 2014 SNOPR received no later than April 25, 2014.

Issued in Washington, DC, on April 4, 2014.
Kathleen B. Hogan,
Deputy Assistant Secretary for Energy Efficiency, Energy Efficiency and Renewable Energy.

[FR Doc. 2014-08070 Filed 4-9-14; 8:45 am]

BILLING CODE 6450-01-P